DEPARTMENT OF HEALTH AND HUMAN SERVICES

Centers for Disease Control and Prevention

[Program Announcement 03158]

Cooperative Agreement for Plague Clinical Trials With The Uganda Virus Research Institute; Notice of Intent To Fund Single Eligibility Award

A. Purpose

The Centers for Disease Control and Prevention (CDC) announces the intent to fund fiscal year (FY) 2003 funds for a cooperative agreement program to evaluate the effectiveness and safety of Gentamicin and other antibiotics for the treatment of human plague, to evaluate newly available rapid dipstick tests for diagnosis of human plague, and to develop a long-term collaboration between the CDC and Uganda Health Authorities in the area of plague research and prevention. The Catalog of Federal Domestic Assistance number for this program is 93.283.

B. Eligible Applicant

Assistance will be provided only to the Uganda Virus Research Institute. No other applications are solicited. UVRI is the most appropriate and qualified agency to conduct the activities specified under this cooperative agreement for the following reasons:

• CDC Uganda is located at the UVRI facility.

• UVRI is a government agency within the Uganda Ministry of Health. It is the principal agency tasked with surveillance, research, and control of infectious diseases such as plague.

• UVRI is responsible for carrying out all national surveillance and prevention programs for plague, as well as organizing community awareness programs, health education, and education of medical professionals on plague.

• UVRI has established collaborations with the District Health Authorities, individual physicians and healthcare workers in plague-endemic areas. They currently maintain a laboratory facility in the West Nile Region of Uganda, which is endemic for plague.

• UVRI is the only organization that has the existing laboratory capacity to carry out large-scale national public health interventions and to conduct plague research. They have the required field experience and demonstrated capacity in areas directly related to all principal objectives of this proposed program: (1) Identification of cases of plague through clinic-based surveillance in areas with a high incidence of plague; (2) systematically evaluate optimal treatment regimens while ensuring patient safety; (3) evaluate the performance of newly available rapid tests for the diagnosis of plague under field conditions, and (4) confirm the diagnosis of suspected plague using state of the art laboratory techniques.

• UVRI has a history of successful collaborations with CDC on large and complicated health research projects, particularly in the areas of HIV/AIDS and vector-borne infectious diseases over the years.

C. Funding

Approximately $150,000 is available in FY 2003 to fund this award. It is expected that the award will begin on or before August 1, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Jacob Kool, MD, Ph.D., Division of Vector-Borne Infectious Diseases, National Center for Infectious Diseases, Centers for Disease Control and Prevention, Rampart Road (Foothills Campus), Fort Collins, CO 80521, Telephone: 970-266-3540, E-mail: jkool@cdc.gov.

Dated: July 11, 2003.
Edward Schultz,
Acting Director, Procurement and Grants Office, Centers for Disease Control and Prevention.

[FR Doc. 03-18241 Filed 7-17-03; 8:45 am]

BILLING CODE 4163-18-P